DEPARTMENT OF HEALTH AND HUMAN SERVICES

Food and Drug Administration

[Docket No. 83F-0164]

Nalco Chemical Co.; Withdrawal of Food Additive Petition

AGENCY: Food and Drug Administration, HHS.

ACTION: Notice.

SUMMARY: The Food and Drug Administration (FDA) is announcing the withdrawal, without prejudice to a future filing, of a food additive petition (FAP 2B3627) proposing that the food additive regulations be amended to provide for the safe use of 2-(4-thiazolyl)benzimidazole as a component of adhesives and paper and paperboard.

FOR FURTHER INFORMATION CONTACT: Julius Smith, Center for Food Safety and Applied Nutrition (HFS-215), Food and Drug Administration, 200 C St. SW.,Washington, DC 20204, 202-418-3091.

SUPPLEMENTARY INFORMATION: In a notice published in the Federal Register of June 17, 1983 (48 FR 27834), FDA announced that a food additive petition (FAP 2B3627) had been filed by Calgon Corp., Box 1346, Pittsburgh, PA 15320. (Calgon Corp. was subsequently purchased by Nalco Chemical Co.) The petition proposed to amend the food additive regulations in § 176.170 Components of paper and paperboard in contact with aqueous and fatty foods (21 CFR 176.170) to provide for the safe use of 2-(4-thiazolyl)benzimidazole as a component of paper and paperboard for use in food contact applications and that § 175.105 Adhesives (21 CFR 175.105) be amended to provide for the safe use of 2-(4-thiazolyl)benzimidazole as a component of adhesives. Nalco Chemical Co. has now withdrawn the petition without prejudice to a future filing (21 CFR 171.7).

Dated: February 27, 2001.
Alan M. Rulis,
Director, Office of Premarket Approval, Center for Food Safety and Applied Nutrition.

[FR Doc. 01-6367 Filed 3-16-01; 8:45 am]

BILLING CODE 4160-01-S